CONSUMER PRODUCT SAFETY COMMISSION

Sunshine Act Meeting Notice

TIME AND DATE: Wednesday, April 14, 2021; 11:00 a.m.-12:00 a.m.

PLACE: Due to the COVID-19 Pandemic, the meeting will be held remotely.

STATUS: Commission Meeting—Open to the Public.

MATTERS TO BE CONSIDERED: Decisional Matter: Proposed Fiscal Year (FY) 2021 Spending Plan of the American Rescue Plan Act (ARPA) Funds.

All attendees should preregister for the Webinar. To pre-register for the Webinar, please visit: https://attendee.gotowebinar.com/register/5606127629749658381.

Dated: April 9, 2021.
Alberta E. Mills,
Commission Secretary.

[FR Doc. 2021-07689 Filed 4-12-21; 11:15 am]

BILLING CODE 6355-01-P